DEPARTMENT OF THE INTERIOR

National Park Service

[NPS-WASO-NAGPRA-NPS0038525; PPWOCRADN0-PCU00RP14.R50000]

Notice of Intended Repatriation: University of North Dakota, Grand Forks, ND, and University of North Dakota Alumni Association & Foundation, Grand Forks, ND

AGENCY: National Park Service, Interior.

ACTION: Notice.

SUMMARY: In accordance with the Native American Graves Protection and Repatriation Act (NAGPRA), the University of North Dakota and the UND Alumni Association & Foundation intend to repatriate certain cultural items that meet the definition of sacred objects and/or objects of cultural patrimony and that have a cultural affiliation with the Indian Tribes or Native Hawaiian organizations in this notice.

DATES: Repatriation of the cultural items in this notice may occur on or after September 20, 2024.

ADDRESSES: Dr. Crystal Alberts, University of North Dakota, Twamley Hall Room 300, 264 Centennial Drive, Grand Forks, ND 58202, telephone (701) 777-2393, email und.nagpra@und.edu.

SUPPLEMENTARY INFORMATION: This notice is published as part of the National Park Service's administrative responsibilities under NAGPRA. The determinations in this notice are the sole responsibility of the University of North Dakota and the UND Alumni Association & Foundation, and additional information on the determinations in this notice, including the results of consultation, can be found in the summary or related records. The National Park Service is not responsible for the determinations in this notice.

Abstract of Information Available

A total of five cultural items have been requested for repatriation.

The first object of cultural patrimony is a saddle. This item was a part of the Victor A. Corbett Collection, gifted to the UND Alumni Association & Foundation (UNDAAF) circa February 1988. According to New York City-based appraisers consulted by the UNDAAF in the 1980s, most of these items are estimated to date from the 1890s through the 1950s with most acquired by Corbett in the 1940s and 50s and appear to be from tribes in what is now North Dakota and surrounding states.

Victor A. Corbett, a dentist in Minot, ND from 1931-1984, was reported to accept artifacts from Native Americans in the surrounding area, namely the Standing Rock Sioux Tribe and the residents of the nearby Three Affiliated Tribes of Fort Berthold Reservation, sometimes in lieu of payment for dental services. Documents suggest he also collected objects related to Native American culture through various means, including purchasing and commissioning custom-made pieces. Additionally, research suggests that he would take objects from patients as collateral for an outstanding bill for dental services rendered. Collection records do not provide any additional information regarding the objects' provenience or provenance.

The object of cultural patrimony is described by the appraiser as “Rawhide pad saddle with floral beaded designs in ovoid circles at the four corners and on four attached rectangular side panels. Three shades of green, two shades of pink, two shades of blue and yellow beads in the floral design on a white background. Stirrups and cinch strap are added and not original. Turtle Mountain Chippewa. ca. 1880. Good condition.” The object has not been treated with potentially hazardous substances to the best of the institutions' knowledge.

The other four cultural items include one sacred object, which is a pipe made of black stone, and three sacred objects/objects of cultural patrimony, which are a hand drum and two decorated drumsticks. These items were a part of the Emily Doak Wolff Collection, gifted to the UND Alumni Association & Foundation in May 1992. In 1914, the University of North Dakota (UND) staged “A Pageant of the North-West.” Contemporaneous accounts from 1914 in UND's student newspaper, the 1916 Dakotah yearbook, and UND Department of Theatre records indicate that individuals from the Turtle Mountain Band of Chippewa Indians were invited to participate in the “A Pageant of the North-West” of 1914, including Flying Eagle (Marchebenus) and Temoweneni (Little Boy). Henry A. Doak, former UND faculty member, oversaw props for this production, which included the use of the sacred objects/objects of cultural patrimony described within this notice. No object has been treated with potentially hazardous substances to the best of the institutions' knowledge.

Determinations

The University of North Dakota and the UND Alumni Association & Foundation has determined that:

• The one sacred object described in this notice are specific ceremonial objects needed by a traditional Native American religious leader for present-day adherents to practice traditional Native American religion, according to the Native American traditional knowledge of a lineal descendant, Indian Tribe, or Native Hawaiian organization.

• The one object of cultural patrimony described in this notice has ongoing historical, traditional, or cultural importance central to the Native American group, including any constituent sub-group (such as a band, clan, lineage, ceremonial society, or other subdivision), according to the Native American traditional knowledge of an Indian Tribe or Native Hawaiian organization.

• The three sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Turtle Mountain Band of Chippewa Indians of North Dakota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 20, 2024. If competing requests for repatriation are received, the University of North Dakota and the UND Alumni Association & Foundation must determine the most appropriate requestor prior to repatriation. Requests for joint repatriation of the cultural items are considered a single request and not competing requests. The University of North Dakota and the UND Alumni Association & Foundation are responsible for sending a copy of this notice to the Indian Tribes and Native Hawaiian organizations identified in this notice and to any other consulting parties.

Authority: Native American Graves Protection and Repatriation Act, 25 U.S.C. 3004 and the implementing regulations, 43 CFR 10.9.

Dated: August 7, 2024.
Melanie O'Brien,
Manager, National NAGPRA Program.

[FR Doc. 2024-18677 Filed 8-20-24; 8:45 am]

BILLING CODE 4312-52-P